DEPARTMENT OF HEALTH AND HUMAN SERVICES

[Document Identifier: OS-0990-new]

Agency Information Collection Request; 30-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before September 19, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Evaluation of the Kidney Innovation Accelerator (KidneyX).

Type of Collection: New.

OMB No. 0990-NEW—Office of the Chief Technology Officer

Abstract: The Office of the Chief Technology Officer (CTO) is initiating an independent evaluation under the Department of Health & Human Services (HHS) of the Kidney Innovation Accelerator—or KidneyX—a public-private partnership between HHS/CTO and the American Society of Nephrology (ASN).

The KidneyX evaluation involves a mixed-methods design for data collection and analysis. The evaluation integrates qualitative techniques, such as document analysis and stakeholder interviews, to capture the details and effects of processes and changes within the KidneyX initiative. We will apply quantitative methods, such as surveys and econometric analysis, in discrete situations in which we find sufficient certainty and coherence in environmental conditions to conduct rigorous analysis.

The evaluation will use a data-driven set of methodologies to address, to the extent possible, the central question of the effectiveness of KidneyX: The degree to which KidneyX contributed to any acceleration in the rate of innovation in the targeted area of kidney technology compared with how innovation would have progressed without KidneyX.

Estimated Annualized Burden Hours:
Type of respondent | Form name | Number of respondents | Number of responses per respondent | Average burden per response (in min) | Total burden (in hr)
Prize competition applicants | Applicant Interview Guide | 12 | 1 | 50/60 | 10
Prize competition awardees | Awardee Interview Guide | 6 | 1 | 50/60 | 5
Prize competition non-awardees | Non-awardee Interview Guide | 6 | 1 | 50/60 | 5
Other Stakeholders | Other Stakeholder Interview Guide | 6 | 1 | 50/60 | 5
Prize competition applicants | Pre-award Survey Instrument | 300 | 1 | 30/60 | 150
Prize competition awardees and non-awardees | Post-award Survey Instrument | 300 | 1 | 30/60 | 150
Total |  |  |  |  | 325

Terry Clark,
Office of the Secretary, Paperwork Reduction Act Reports Clearance Officer.

[FR Doc. 2019-17887 Filed 8-19-19; 8:45 am]

BILLING CODE 4150-04-P